DEPARTMENT OF AGRICULTURE

Food and Nutrition Service

7 CFR Parts 273 and 274

Food Stamp Program

CFR Correction

In Title 7 of the Code of Federal Regulations, Parts 210 to 299, revised as of January 1, 2009, on page 778, in § 273.9, in paragraph (c)(8), move the last sentence in front of the sentence before it, and on page 892, in § 274.12, remove paragraphs (c)(1)(i) and (c)(1)(ii).

[FR Doc. E9-30502 Filed 12-21-09; 8:45 am]

BILLING CODE 1505-01-D